DEPARTMENT OF COMMERCE

National Oceanic and Atmospheric Administration

[I.D. 041702E]

Pacific Fishery Management Council; Public Meeting

AGENCY: National Marine Fisheries Service (NMFS), National Oceanic and Atmospheric Administration (NOAA),Commerce.

ACTION: Notice of public meetings.

SUMMARY: The Pacific Fishery Management Council's (Council) Sablefish Stock Assessment Review (STAR) Panel will hold a telephone conference, which is open to the public.

DATES: The telephone conference will be held Monday, May 6, 2002, from 1 p.m. to 3 p.m.

ADDRESSES: Council address: Pacific Fishery Management Council, 7700 NE Ambassador Place, Suite 200, Portland, OR 97220-1384. See SUPPLEMENTARY INFORMATION for specific locations of the listening stations.

FOR FURTHER INFORMATION CONTACT: Mr. John DeVore, telephone: (503) 326-6352, ext.210.

SUPPLEMENTARY INFORMATION:

Listening Station Locations

1. National Marine Fisheries Service, Northwest Fisheries Science Center, 2725 Montlake Boulevard,Room 366W, Seattle, WA 98112; Contact: Dr. Richard Methot (206) 860-3365;

2.Pacific Fishery Management Council, West Conference Room, 7700 NE Ambassador Place,Suite 200, Portland, OR 97220-1384; Contact: Mr. John DeVore (503) 326-6352, ext. 210;

3. National Marine Fisheries Service, Northwest Fisheries Science Center, Hatfield Marine Science Center, Room NAL 104, 2030 SE Marine Science Drive, Newport, OR 97365;Contact: Ms. Mary Craig (541) 867-0143

4. Coos Bay Trawlers Association, 63422 Kingfisher Road, Coos Bay, OR 97420; Contact: Mr. Steve Bodnar (541) 888-8012; and

5. National Marine Fisheries Service, Southwest Fisheries Science Center, Santa Cruz Laboratory, Room 219, 110 Shaffer Road, Santa Cruz, CA 95060; Contact: Ms. Cheryl Kaine(831) 420-3933.

The purpose of the telephone conference is to review the updated 2001 sablefish stock assessment for use in developing management recommendations for 2003 fisheries.

Although nonemergency issues not contained in the teleconference call agenda may come before the STAR Panel for discussion, those issues may not be the subject of formal STAR Panel action during this meeting. STAR Panel action will be restricted to those issues specifically listed in this notice and any issues arising after publication of this notice that require emergency action under section 305(c) of the Magnuson-Stevens Fishery Conservation and Management Act, provided the public has been notified of the STAR Panel's intent to take final action to address the emergency.

Special Accommodations

This teleconference call is physically accessible to people with disabilities. Requests for sign language interpretation or other auxiliary aids should be directed to Ms. Carolyn Porter at (503) 326-6352 at least 5 days prior to the teleconference date.

Dated: April 17, 2002.
Richard W. Surdi,
Acting Director,Office of Sustainable Fisheries, National Marine Fisheries Service.

[FR Doc. 02-9811 Filed 4-19-02; 8:45 am]

BILLING CODE 3510-22-S